ENVIRONMENTAL PROTECTION AGENCY

40 CFR Part 141

[EPA-HQ-OW-2021-0079; FRL 10022-49-OW]

Expedited Approval of Alternative Test Procedures for the Analysis of Contaminants Under the Safe Drinking Water Act; Analysis and Sampling Procedures

Correction

In rule document 2021-10974 appearing on pages 28277 through 28290 in the issue of Wednesday, May 26, 2021, make the following correction:

PART 141—NATIONAL PRIMARY DRINKING WATER REGULATIONS [CORRECTED]

1. On page 28285, in the table entitled “ALTERNATIVE TESTING METHODS FOR CONTAMINANTS LISTED AT 40 CFR 141.23 (k)(1)”, in the second row from the bottom of the page “pH”, in columns four, five and six, “4500-H + B” should read, “4500-H + B”

2. On page 28286, in the table entitled “ALTERNATIVE TESTING METHODS FOR CONTAMINANTS LISTED AT 40 CFR 141.24 (e)(1)”, in the first column entitled “Contaminant”, the twenty-fourth line, “. . . . . . . . . . . . .” should read, “Alachlor.”

3. On page 28286, in the table entitled “ALTERNATIVE TESTING METHODS FOR CONTAMINANTS LISTED AT 40 CFR 141.24 (e)(1)”, in the first column entitled “Contaminant”, the twenty-fourth line, the third row “. . . . . . . . . . . . .” should read, “525.3 ²⁴

4. On page 28286, in the table entitled “ALTERNATIVE TESTING METHODS FOR CONTAMINANTS LISTED AT 40 CFR 141.24 (e)(1)”, in the first column entitled “Contaminant”, the twenty-eighth row, beneath “Carbofuran” currently reads, “. . . . . . .” and should read, “Chlordane”.

[FR Doc. C1-2021-10974 Filed 6-1-21; 8:45 am]

BILLING CODE 0099-10-P